DEPARTMENT OF HEALTH AND HUMAN SERVICES

National Institutes of Health

Center for Scientific Review; Cancellation of Meeting

Notice is hereby given of the cancellation of the Center for Scientific Review Special Emphasis Panel, October 14, 2003, 3 p.m. to October 14, 2003, 5 p.m., National Institutes of Health, 6701 Rockledge Drive, Bethesda, MD 20892 which was published in the Federal Register on September 17, 2003, 68 FR 54479-54481.

The meeting is cancelled due to administrative changes.

Dated: October 1, 2003.
LaVerne Y. Stringfield,
Director, Office of Federal Advisory Committee Policy.

[FR Doc. 03-25689 Filed 10-9-03; 8:45 am]

BILLING CODE 4140-01-M